DEPARTMENT OF HEALTH AND HUMAN SERVICES

Administration for Children and Families

Proposed Information Collection Activity; Social Services Block Grant (SSBG) Post-Expenditure Report (OMB #0970-0234)

AGENCY: Office of Community Services, Administration for Children and Families, HHS.

ACTION: Request for Public Comment.

SUMMARY: The Administration for Children and Families (ACF) is requesting a 3-year extension of the Social Services Block Grant (SSBG) Post-Expenditure Report (OMB #0970-0234, expiration 1/31/2021). ACF is proposing to reduce the burden estimates in the previously approved request by removing use of the form for the Pre-Expenditure Report.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: On an annual basis, states and territories are required to submit a Post-Expenditure Report that details their use of SSBG funds in each of the 29 service categories. Grantees are required to submit their Post-Expenditure Report within 6 months of the end of the period covered by the report.

In the previous approval request for the Post-Expenditure Report, OCS also requested that states voluntarily use the Post-Expenditure Reporting form to create a Pre-Expenditure Report, which provides estimates of the expenditures and number of recipients by service category. ACF is proposing to remove the burden associated with the use of the Post-Expenditure Report form for Pre-Expenditure reporting and intends to submit a separate request to establish a form specific to the Pre-Expenditure Report.

Respondents: Agencies that administer the SSBG at the state or territory level, including the 50 States; District of Columbia; Puerto Rico; and the territories of American Samoa, Guam, the Virgin Islands, and the Commonwealth of Northern Mariana Islands.

Annual Burden Estimates
Instrument | Annual number of respondents | Annual number of responses per respondent | Average burden hours per response | Total/annual burden hours
Post-Expenditure Reporting Form | 56 | 1 | 110 | 6,160

Estimated Total Annual Burden Hours: 6,160.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1397 through 1397e.

John M. Sweet Jr.,
ACF/OPRE Certifying Officer.

[FR Doc. 2020-20447 Filed 9-15-20; 8:45 am]

BILLING CODE 4184-24-P